DEPARTMENT OF ENERGY

Federal Energy Regulatory Commission

Combined Notice of Filings #2

Take notice that the Commission received the following exempt wholesale generator filings:

Docket Numbers: EG25-95-000.

Applicants: SloughHouse Solar, LLC.

Description: SloughHouse Solar, LLC submits Notice of Self-Certification of Exempt Wholesale Generator Status.

Filed Date: 1/30/25.

Accession Number: 20250130-5272.

Comment Date: 5 p.m. ET 2/20/25.

Docket Numbers: EG25-96-000.

Applicants: RWE Clean Energy, LLC.

Description: Peyton Creek Wind Farm II, LLC submits Notice of Self-Certification of Exempt Wholesale Generator Status.

Filed Date: 1/31/25.

Accession Number: 20250131-5234.

Comment Date: 5 p.m. ET 2/21/25.

Docket Numbers: EG25-97-000.

Applicants: RWE Clean Energy, LLC.

Description: Stoneridge Solar, LLC submits Notice of Self-Certification of Exempt Wholesale Generator Status.

Filed Date: 1/31/25.

Accession Number: 20250131-5235.

Comment Date: 5 p.m. ET 2/21/25.

Take notice that the Commission received the following electric rate filings:

Docket Numbers: ER21-201-004.

Applicants: Atlantic City Electric Company, PJM Interconnection, L.L.C.

Description: Compliance filing: Atlantic City Electric Company submits tariff filing per 35: Atlantic City Electric Co. Order No. 864 Clean-Up Revisions in ER21-201 to be effective 5/1/2020.

Filed Date: 1/31/25.

Accession Number: 20250131-5211.

Comment Date: 5 p.m. ET 2/21/25.

Docket Numbers: ER25-700-001.

Applicants: Southwest Power Pool, Inc.

Description: Tariff Amendment: 4268R1 Blue Valley Grid GIA—Amended Filing to be effective 12/3/2024.

Filed Date: 1/31/25.

Accession Number: 20250131-5281.

Comment Date: 5 p.m. ET 2/21/25.

Docket Numbers: ER25-1124-000.

Applicants: EdSan 1C Solar, LLC.

Description: Initial Rate Filing: Market-Based Rate Application to be effective 4/2/2025.

Filed Date: 1/31/25.

Accession Number: 20250131-5227.

Comment Date: 5 p.m. ET 2/21/25.

Docket Numbers: ER25-1125-000.

Applicants: Clearwater Energy Resources LLC.

Description: 205(d) Rate Filing: First Amendment to the Clearwater East Project TSA to be effective 2/1/2024.

Filed Date: 1/31/25.

Accession Number: 20250131-5230.

Comment Date: 5 p.m. ET 2/21/25.

Docket Numbers: ER25-1126-000.

Applicants: Daylight I, LLC.

Description: 205(d) Rate Filing: Facilities Use Agreement to be effective 4/2/2025.

Filed Date: 1/31/25.

Accession Number: 20250131-5246.

Comment Date: 5 p.m. ET 2/21/25.

Docket Numbers: ER25-1127-000.

Applicants: Spring Grove Solar II, LLC.

Description: Initial Rate Filing: Market-Based Rate Application to be effective 4/2/2025.

Filed Date: 1/31/25.

Accession Number: 20250131-5293.

Comment Date: 5 p.m. ET 2/21/25.

Docket Numbers: ER25-1128-000.

Applicants: PJM Interconnection, L.L.C.

Description: 205(d) Rate Filing: Replacement Generation Interconnection Service to be effective 4/2/2025.

Filed Date: 1/31/25.

Accession Number: 20250131-5365.

Comment Date: 5 p.m. ET 2/21/25.

The filings are accessible in the Commission's eLibrary system (https://elibrary.ferc.gov/idmws/search/fercgensearch.asp) by querying the docket number.

Any person desiring to intervene, to protest, or to answer a complaint in any of the above proceedings must file in accordance with Rules 211, 214, or 206 of the Commission's Regulations (18 CFR 385.211, 385.214, or 385.206) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

The Commission's Office of Public Participation (OPP) supports meaningful public engagement and participation in Commission proceedings. OPP can help members of the public, including landowners, environmental justice communities, Tribal members and others, access publicly available information and navigate Commission processes. For public inquiries and assistance with making filings such as interventions, comments, or requests for rehearing, the public is encouraged to contact OPP at (202) 502-6595 or OPP@ferc.gov.

Dated: January 31, 2025.
Debbie-Anne A. Reese,
Secretary.

[FR Doc. 2025-02321 Filed 2-6-25; 8:45 am]

BILLING CODE 6717-01-P